DEPARTMENT OF COMMERCE

International Trade Administration

[C-489-823]

Welded Line Pipe From the Republic of Turkey: Rescission of Countervailing Duty Administrative Review; 2016

AGENCY: Enforcement and Compliance, International Trade Administration, Department of Commerce.

SUMMARY: The Department of Commerce (Commerce) is rescinding the administrative review of the countervailing duty order on welded line pipe from the Republic of Turkey (Turkey) for the period January 1, 2016, through December 31, 2016.

DATES: Applicable April 24, 2018.

FOR FURTHER INFORMATION CONTACT: Alice Maldonado or David Crespo, AD/CVD Operations, Office II, Enforcement and Compliance, International Trade Administration, U.S. Department of Commerce, 1401 Constitution Avenue NW, Washington, DC 20230; telephone: (202) 482-4682 or (202) 482-3693, respectively.

SUPPLEMENTARY INFORMATION:

Background

On December 4, 2017, Commerce published in the Federal Register a notice of “Opportunity to Request Administrative Review” of the countervailing duty order on welded line pipe from Turkey for the period January 1, 2016 through December 31, 2016.¹ In December 2017, Commerce received a timely request, in accordance with section 751(a) of the Tariff Act of 1930, as amended (the Act), to conduct an administrative review of this countervailing duty order from one of the petitioners in this case, Maverick Tube Corporation (Maverick).² Based upon this request, on February 23, 2018, in accordance with section 751(a) of the Act, Commerce published in the Federal Register a notice of initiation listing 19 companies for which Commerce received timely requests for review.³

¹ See Antidumping or Countervailing Duty Order, Finding, or Suspended Investigation; Opportunity to Request Administrative Review, 82 FR 57219 (December 4, 2017).

² See Letter from Maverick to Commerce, “Welded Line Pipe from the Republic of Turkey: Request for Administrative Review,” dated December 29, 2017.

³ See Initiation of Antidumping and Countervailing Duty Administrative Reviews, 83 FR 8058 (February 23, 2018).

On April 12, 2018, Maverick withdrew its request for an administrative review.⁴

⁴ See Letter from Maverick to Commerce, “Welded Line Pipe from the Republic of Turkey: Withdrawal of Request for Administrative Review,” dated April 12, 2018.

Rescission of Review

Pursuant to 19 CFR 351.213(d)(1), the Secretary will rescind an administrative review, in whole or in part, if a party who requested the review withdraws the request within 90 days of the date of publication of notice of initiation of the requested review. The aforementioned withdrawal request was timely submitted, and no other interested party requested an administrative review of any company. Therefore, we are rescinding the administrative review of the countervailing duty order on welded line pipe from Turkey covering the period January 1, 2016 through December 31, 2016.

Assessment

Commerce will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). Commerce intends to issue appropriate assessment instructions to CBP 15 days after publication of this notice in the Federal Register.

Notification Regarding Administrative Protective Orders

This notice serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This notice is issued and published in accordance with section 751 of the Act and 19 CFR 351.213(d)(4).

Dated: April 18, 2018.
James Maeder,
Associate Deputy Assistant Secretary for Antidumping and Countervailing Duty Operations performing the duties of Deputy Assistant Secretary for Antidumping and Countervailing Duty Operations.

[FR Doc. 2018-08468 Filed 4-23-18; 8:45 am]

BILLING CODE 3510-DS-P